DEPARTMENT OF ENERGY

Federal Energy Regulatory Commission

[Docket Nos. CP20-484-000; CP20-485-000]

ANR Pipeline Company; Great Lakes Transmission Limited Partnership; Notice of Intent To Prepare an Environmental Impact Statement for the Proposed Alberta Xpress and Lease Capacity Abandonment Projects and Schedule for Environmental Review

The staff of the Federal Energy Regulatory Commission (FERC or Commission) will prepare an environmental impact statement (EIS) for the Alberta Xpress and Lease Capacity Abandonment Projects (Projects), proposed by ANR Pipeline Company (ANR) and Great Lakes Transmission Limited Partnership (Great Lakes) in Evangeline Parish, Louisiana. The EIS will tier off Commission staff's Environmental Assessment (EA) and its findings and conclusions for the Project issued on December 4, 2020, and respond to comments filed on the EA.¹ The EIS will assist the Commission in its consideration of the Project's contribution to climate change and its decision-making process to determine whether ANR and Great Lakes proposed Projects are in the public convenience and necessity. The schedule for preparation of the EIS is discussed in the “Schedule for Environmental Review” section of this notice.

¹ The EA for the Project is filed in Docket Nos. CP20-484-000 and CP20-485-000 under Accession No. 20201204-3004.

The National Environmental Policy Act Process

The production of the EIS is part of the Commission's overall National Environmental Policy Act review process. Commission staff will independently analyze the proposed Project and prepare a draft EIS, which will be issued for public comment. Commission staff will consider all timely comments received during the comment period on the draft EIS and revise the document, as necessary, before issuing a final EIS. Any draft and final EIS will be available in electronic format in the public record through eLibrary ² and the Commission's natural gas environmental documents web page (https://www.ferc.gov/industries-data/natural-gas/environment/environmental-documents).

² For instructions on connecting to eLibrary, refer to the “Additional Information” section of this notice.

Schedule for Environmental Review

This notice identifies the Commission staff's planned schedule for completion of a final EIS for the Project, which is based on an issuance of the draft EIS in July 2020.

Issuance of Notice of Availability of the final EIS—October 29, 2021

90-day Federal Authorization Decision Deadline—January 27, 2022

If a schedule change becomes necessary for the final EIS, an additional notice will be provided so that the relevant agencies are kept informed of the Project's progress.

Environmental Mailing List

This notice is being sent to the Commission's current environmental mailing list for the Project which includes federal, state, and local government representatives and agencies; Native American Tribes; elected officials; other interested parties; and local libraries and newspapers. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project.

If you need to make changes to your name/address, or if you would like to remove your name from the mailing list, please complete one of the following steps:

(1) Send an email to GasProjectAddressChange@ferc.gov stating your request. You must include the docket numbers CP20-484-000 or CP20-485-000 in your request. If you are requesting a change to your address, please be sure to include your name and the correct address. If you are requesting to delete your address from the mailing list, please include your name and address as it appeared on this notice. This email address is unable to accept comments. OR

(2) Return the attached “Mailing List Update Form” (appendix 1).

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Dated: July 7, 2021.
Kimberly D. Bose,
Secretary.

[FR Doc. 2021-14846 Filed 7-12-21; 8:45 am]

BILLING CODE 6717-01-P